ENVIRONMENTAL PROTECTION AGENCY

[OAR-2004-0389; FRL-7979-2]

Agency Information Collection Activities; Submission to OMB for Review and Approval; Comment Request; Servicing of Motor Vehicle Air Conditioners, EPA ICR Number 1617.05, OMB Control Number 2060-0247

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on September 30, 2005. Under OMB regulations, the Agency may continue to conduct or sponsor the collection of information while this submission is pending at OMB. This ICR describes the nature of the information collection and its estimated burden and cost.

DATES: Additional comments may be submitted on or before November 3, 2005.

ADDRESSES: Submit your comments, referencing docket ID number OAR-2004-0389, to (1) EPA online using EDOCKET (our preferred method), by e-mail to a-and-r-Docket@epa.gov, or by mail to: EPA Docket Center, Environmental Protection Agency, EPA Air Docket, MC6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Nancy Smagin, Office of Atmospheric Programs, MC 6205J, Environmental Protection Agency, 1200 Pennsylvania Ave., NW., Washington, DC 20460; telephone number: 202-343-9126; fax number: 202-343-2338; e-mail address: smagin.nancy@epa.gov.

SUPPLEMENTARY INFORMATION: EPA has submitted the following ICR to OMB for review and approval according to the procedures prescribed in 5 CFR 1320.12. On April 11, 2005, (70 FR 18395), EPA sought comments on this ICR pursuant to 5 CFR 1320.8(d). EPA received no comments.

EPA has established a public docket for this ICR under Docket ID No. OAR-2004-0389, which is available for public viewing at the EPA Air Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the EPA Air Docket is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Servicing of Motor Vehicle Air Conditioners.

Abstract: In 1992, EPA developed regulations under section 609 of the Clean Air Act Amendments of 1990 (Act) for the recycling of chlorofluorocarbons and their substitutes in motor vehicle air conditioners (MVACs). These regulations were published in 57 FR 31261 on July 14, 1992, and are codified at 40 CFR part 82, subpart B (§ 82.30 et seq.). The information required to be collected under the section 609 regulations is described below. This information is currently approved for use through September 30, 2005.

The information required to be collected includes the following: submission of a program plan to EPA by organizations who want to participate as an EPA-technician certification program, submission of an application by independent laboratories that proves their general capacity to certify refrigerant recovery and/or recycling equipment to meet the Society of Automotive Engineers (SAE) standards for recycled refrigerant, and for equipment manufacturers or owners wanting to grandfather their equipment, the submission of an application, supporting documents, flow sheets, equipment components and other information which would indicate that the equipment is capable of recycling or recovering the refrigerant to standards set forth in Appendices A, B, C, D, E and F to the regulations.

Motor vehicle air conditioning service establishments are required by section 609 of the Act to certify that they have purchased refrigerant recycling and/or recovery equipment by January 1, 1992. The Stratospheric Programs Division (SPD) uses the certificates to confirm compliance with section 609.

In order for technicians to service or maintain MVACs, they must pass a certification test as stipulated in section 609 of the Act. In the interest of providing national harmony in promoting technician awareness in the proper handling of refrigerant, the Agency is charged through section 609 with the establishment of minimum national standards for technician certification. The SPD uses the information submitted by technician certification programs to determine if programs meet the standards established by the Agency. In addition, the SPD uses the information to insure that the programs are at least as stringent as the SAE J standards of the Society of Automotive Engineers.

The information requested for all entities that service MVACs is required by section 609(d) of the Act with regard to the following:

(1) Technician certification programs: Proposed automotive technician certification programs are required to be approved by EPA in accordance with section 609(b)(4);

(2) Business certification requirements: Section 609(b)(2)(A) requires EPA approval of independent laboratories that certify equipment for the extraction and reclamation of refrigerant from MVACs;

(3) Manufacturers' certification of recovery equipment: The submission of data for EPA determination of substantially identical equipment is addressed by section 609(b)(2)(B) (substantially identical equipment is equipment certified before the proposal of regulations under section 609 that is substantially identical to equipment currently meeting EPA's standards);

(4) Recordkeeping requirements: The recordkeeping requirements for the motor vehicle recycling program are derived from section 114 of the Act.

An agency may not conduct or sponsor, and a person is not required to respond to, a collection of information unless it displays a currently valid OMB control number. The OMB control numbers for EPA's regulations in 40 CFR are listed in 40 CFR part 9.

Burden Statement: The annual public reporting and recordkeeping burden for this collection of information is estimated to average 0.11 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: New and used motor vehicle dealers, gasoline service stations, truck rental and leasing without drivers, passenger car rental, top, body, upholstery repair and paint shops, general automotive repair shops and automotive repair shops not elsewhere classified.

Estimated Number of Respondents: 25,013.

Frequency of Response: On occasion.

Estimated Total Annual Hour Burden: 2,865.

Estimated Total Annual Capital and O&M Costs: $0.

Changes in the Estimates: The decrease in burden results from the fact that the number of service facilities entering the market and changing ownership was overstated in the original ICR and was adjusted downward in the last revision to this ICR. In this revision to the ICR, we were able to acknowledge significant cost reductions in the public sector, because the Bureau of Labor Statistics' data on salaries shows that our previous salary assumptions were arbitrarily inflated. In addition, a number of erroneous entries and inconsistencies were detected in the previous revision to the ICR. Correcting those errors has resulted in significant reductions in resultant burden.

Dated: September 24, 2005.
Oscar Morales,
Director, Collection Strategies Division.

[FR Doc. 05-19840 Filed 10-3-05; 8:45 am]

BILLING CODE 6560-50-P